ENVIRONMENTAL PROTECTION AGENCY

[EPA-HQ-OAR-2007-0281; FRL-8316-4]

Agency Information Collection Activities; Proposed Collection; Comment Request; Final Rule for Implementation of the New Source Review (NSR) Program for Particulate Matter Less Than 2.5 Micrometers (PM2.5); EPA ICR No. 1230.21; OMB Control No. 2060-0003

AGENCY: Environmental Protection Agency (EPA).

ACTION: Notice.

SUMMARY: In compliance with the Paperwork Reduction Act (PRA) (44 U.S.C. 3501 et seq.), this document announces that EPA is planning to submit a request for an update to an existing approved Information Collection Request (ICR) to the Office of Management and Budget (OMB). Before submitting this ICR to OMB for review and approval, EPA is soliciting comments on specific aspects of the proposed information collection as described below.

DATES: Comments must be submitted on or before July 17, 2007.

ADDRESSES: Submit your comments, identified by Docket ID No. EPA-HQ-OAR-2007-0281, by one of the following methods:

• www.regulations.gov: Follow the on-line instructions for submitting comments.

• E-mail: a-and-r-Docket@epa.gov.

• Fax: (202) 566-9744.

• Mail: Air and Radiation Docket Information Center, EPA Docket Center (EPA/DC), U.S. Environmental Protection Agency, Mail Code 2822T, 1200 Pennsylvania Avenue, NW., Washington, DC 20460.

• Hand Delivery: U.S. Environmental Protection Agency, EPA West (Air Docket), Room 3334, 1301 Constitution Avenue, NW., Washington, DC. Such deliveries are accepted only during the Docket's normal hours of operation, and special arrangements should be made for deliveries of boxed information.

Instructions: Direct your comments to Docket ID No. EPA-HQ-OAR-2007-0281. The EPA's policy is that all comments received will be included in the public docket without change and may be made available online at www.regulations.gov, including any personal information provided, unless the comment includes information claimed to be Confidential Business Information (CBI) or other information whose disclosure is restricted by statute. Do not submit information that you consider to be CBI or otherwise to be protected through www.regulations.gov or e-mail. The www.regulations.gov Web site is an “anonymous access” system, which means EPA will not know your identity or contact information unless you provide it in the body of your comment. If you send an e-mail comment directly to us without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption and be free of any defects or viruses. For additional information about the EPA public docket visit the EPA Docket Center homepage at http://www.epa.gov/epahome/dockets.htm.

FOR FURTHER INFORMATION CONTACT: Raj Rao, Air Quality Policy Division, Office of Air Quality Planning and Standards (C504-03), U.S. Environmental Protection Agency, Research Triangle Park, NC 27711; telephone number: (919) 541-5344; fax number: (919) 541-5509; e-mail address: rao.raj@epa.gov.

SUPPLEMENTARY INFORMATION:

How Can I Access the Docket and/or Submit Comments?

The EPA has established a public docket for this ICR under Docket ID No. EPA-HQ-OAR-2007-0281, which is available for online viewing at www.regulations.gov, or in-person viewing at the Air and Radiation Docket in the EPA Docket Center (EPA/DC), EPA West, Room 3334, 1301 Constitution Avenue, NW., Washington, DC. The EPA/DC Public Reading Room is open from 8:30 a.m. to 4:30 p.m., Monday through Friday, excluding legal holidays. The telephone number for the reading room is (202) 566-1744, and the telephone number for the Air and Radiation Docket is (202) 566-1742.

Use www.regulations.gov to obtain a copy of the draft collections of information, submit or view public comments, access the index listing of the contents of the docket, and to access those documents in the public docket that are available electronically. Once in the system, select “search,” then key in the docket ID number identified in this document.

What Information Particularly Interests EPA?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

To What Information Collection Activity or ICR Does This Apply?

Affected entities: Entities potentially affected by this action are major sources of air pollutants that emit PM2.5 and must apply for and obtain a preconstruction permit under the major New Source Review (NSR) program. In addition, State and local air regulatory agencies (“reviewing authorities”) who administer the major NSR program are potentially affected entities.

Title: Final Rule for Implementation of the New Source Review (NSR) Program for Particulate Matter Less Than 2.5 Micrometers (PM2.5).

ICR numbers: EPA ICR No. 1230.21 and OMB Control No. 2060-0003.

ICR status: This ICR is for an update to an existing, approved information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The major NSR program is a preconstruction review and permitting program for new major sources of air pollutants and major modifications at existing major sources. The program is required under parts C and D of title I of the Clean Air Act. The types of information collection activities associated with the major NSR program are those necessary for the preparation and submittal of construction permit applications (by major sources) and the issuance of final permits (by the State and local reviewing authorities). For EPA to carry out its required oversight function of reviewing construction permits and assuring adequate implementation of the program, it must have available to it information on proposed construction and modifications. The major NSR rule changes addressed in this ICR add PM2.5 and its precursors to the list of pollutants that must be addressed in a major NSR permit action, but do not otherwise change the requirements of the program.

Burden Statement: The public reporting and recordkeeping burden for this collection of information is estimated to increase by an average of 52 hours per major NSR permit over the currently approved level of 668 hours per permit. The annual burden for reviewing authorities to administer a major NSR program is estimated to increase by an average of 144 hours over the currently approved level of 1,117 hours per year (equivalent to an average increase of 21 hours per major NSR permit over the currently approved level of 166 hours per permit).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 753 major NSR permits per year obtained by sources; 112 State and local reviewing authorities. These values are unchanged from the currently approved ICR for the major NSR program.

Estimated frequency of response: On occasion (unchanged from currently approved ICR).

Estimated increase in annual burden hours: The incremental increase in annual burden estimated to result from the revisions to the major NSR regulations totals about 39,000 hours for sources and 16,000 hours for reviewing authorities. The currently approved ICR for the entire NSR program (major and minor) includes about 3.5 million hours per year for sources and about 2.4 million hours per year for reviewing authorities.

Estimated increase in annual costs: The incremental increase in annual costs attributable to the major NSR rule revisions is about $4.3 million for sources, which includes an estimated burden cost of $2.55 million and an estimated cost of $1.72 million for preconstruction monitoring for the subset of permitted sources required to perform such monitoring. The currently approved ICR for the entire NSR program (major and minor) includes about $228 million in annual burden costs and about $9 million in annual preconstruction monitoring costs for sources.

The incremental annual cost increase for reviewing authorities is estimated at $700,000, all as a result of the increased burden hours. The currently approved ICR for the entire NSR program includes about $103 million per year for reviewing authorities.

What Is the Next Step in the Process for This ICR?

The EPA will consider the comments received and amend the ICR as appropriate. The final ICR package will then be submitted to OMB for review and approval pursuant to 5 CFR 1320.12. When the final rule is published in the Federal Register, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: May 8, 2007.
William T. Harnett,
Director, Air Quality Policy Division, Office of Air Quality Planning and Standards, Office of Air and Radiation.

[FR Doc. E7-9599 Filed 5-17-07; 8:45 am]

BILLING CODE 6560-50-P